DEPARTMENT OF THE INTERIOR

National Park Service

Notice of Intent to Repatriate a Cultural Item from the Kachemak Bay Region, AK in the Possession of the University of Alaska Museum, Fairbanks, AK

AGENCY: National Park Service.

ACTION: Notice.

Notice is hereby given under the Native American Graves Protection and Repatriation Act, 43 CFR 10.10 (a)(3), of the intent to repatriate a cultural item from the Prince William Sound and Kachemak Bay Regions, AK in the possession of the University of Alaska Museum, Fairbanks, AK which meets the definition of “unassociated funerary object” under Section 2 of the Act.

The one cultural item consists of worked bone.

In 1931, this cultural item was recovered near a burial on Cottonwood Creek, AK during excavations conducted by Frederica de Laguna of the University of Pennsylvania Museum. In 1953, this cultural item was sent to the University of Alaska Museum from the University of Pennsylvania Museum as part of an exchange collection. The human remains recovered with this cultural item have previously been repatriated from the University of Pennsylvania.

Based on material culture, the Cotton Wood Creek site has been identified as Kachemak Bay period (c. 1500 A.D.) Chugach occupations.

Based on the above mentioned information, officials of the University of Alaska Museum have determined that, pursuant to 43 CFR 10.2 (d)(2)(ii), this one cultural item is reasonably believed to have been placed with or near individual human remains at the time of death or later as part of the death rite or ceremony and are believed, by a preponderance of the evidence, to have been removed from a specific burial site of an Native American individual. Officials of the University of Alaska Museum have also determined that, pursuant to 43 CFR 10.2 (e), there is a relationship of shared group identity which can be reasonably traced between this item and the Chugach Alaska Corporation.

This notice has been sent to officials of the Chugach Alaska Corporation. Representatives of any other Indian tribe that believes itself to be culturally affiliated with this object should contact Gary Selinger, Special Projects Manager, University of Alaska Museum, 907 Yukon Drive, Fairbanks, AK 99775-1200; telephone: (907) 474-6117, fax: (907) 474-5469 before May 1, 2000. Repatriation of this object to the Chugach Alaska Corporation may begin after that date if no additional claimants come forward.

Dated: March 23, 2000.
Francis P. McManamon,
Departmental Consulting Archeologist, Manager, Archeology and Ethnography Program.

[FR Doc. 00-7846 Filed 3-29-00 8:45 am]

BILLING CODE 4310-70-F